DEPARTMENT OF THE TREASURY

Departmental Offices; Privacy Act of 1974; System of Records

AGENCY: Departmental Offices, Treasury.

ACTION: Notice of Proposed New Privacy Act System of Records Notices.

SUMMARY: In accordance with the requirements of the Privacy Act of 1974, as amended, 5 U.S.C. 552a, the Department of the Treasury gives notice of a new proposed system of records, “Treasury/DO .003—Law Enforcement Retirement Claims Records.”

DATES: The proposed system of records will be effective February 26, 2001, unless the Department receives comments that would result in a contrary determination.

ADDRESSES: Comments should be sent to Director, Office of Personnel Policy, Room 6018-Metropolitan Square, Department of the Treasury, Washington, DC 20220.

FOR FURTHER INFORMATION CONTACT: Anne Carlucci, Office of Personnel Policy, (202) 622-2855.

SUPPLEMENTARY INFORMATION: The Department of the Treasury makes determinations concerning requests by Treasury employees that the positions they hold in a law enforcement bureau qualify as a law enforcement position (5 U.S.C. 8336(c)(1) and 8412(d)).

The records are maintained and used by the Departmental Office of Personnel Policy because government-wide Office of Personnel Management regulations require that the determination of coverage in a law enforcement position be made by the agency head or a designee who must report directly to the agency head or his/her deputy.

The new system of records report, as required by 5 U.S.C. 552a(r) of the Privacy Act, has been submitted to the Committee on Government Reform of the House of Representatives, the Committee on Governmental Affairs of the Senate, and the Office of Management and Budget, pursuant to Appendix I to OMB Circular A-130, Federal Agency Responsibilities for Maintaining Records About Individuals, dated February 8, 1996.

This system of records, “Treasury/DO .003—Law Enforcement Retirement Claims Records,” is published in its entirety below.

Dated: January 3, 2001.
W. Earl Wright, Jr.,
Chief Management and Administrative Programs Officer.

Treasury/DO .003

System name:

Law Enforcement Retirement Claims Records.

System location:

These records are located in the Office of Personnel Policy, Department of the Treasury, Washington, DC 20220.

Categories of individuals covered by the system:

Current or former Federal employees who have submitted claims for law enforcement retirement coverage (claims) with their bureaus in accordance with 5 U.S.C. 8336(c)(1) and 5 U.S.C. 8412(d).

Categories of records in the system:

The system contains records relating to claims filed by current and former Treasury employees under 5 U.S.C. 8336(c)(1) and 5 U.S.C. 8412(d). These case files contain all documents related to the claim including statements of witnesses, reports of interviews and hearings, examiner's findings and recommendations, a copy of the original and final decision, and related correspondence and exhibits.

Authority for maintenance of the system:

5 U.S.C. 8336(c)(1), 8412(d), 1302, 3301, and 3302; E.O. 10577; 3 CFR 1954-1958 Comp., p. 218 and 1959-1963 Comp., p. 519; and E.O. 10987.

Purpose(s):

The purpose of the system is to make determinations concerning requests by Treasury employees that the position he or she holds qualifies as a law enforcement position for the purpose of administering employment and retirement benefits.

Routine uses of records maintained in the system, including categories of users and the purposes of such uses:

These records may be used:

(1) To disclose pertinent information to the appropriate Federal, state, or local agency responsible for investigating, prosecuting, enforcing, or implementing a statute, rule, regulation, or order, where the disclosing agency becomes aware of an indication of a violation or potential violation of civil or criminal law or regulation;

(2) To disclose information to any source from which additional information is requested in the course of processing a claim, to the extent necessary to identify the individual whose claim is being adjudicated, inform the source of the purpose(s) of the request, and identify the type of information requested;

(3) To disclose information to a Federal agency, in response to its request, in connection with the hiring or retention of an individual, the issuance of a security clearance, the conducting of a security or suitability investigation of an individual, the classifying of jobs, the letting of a contract, or the issuance of a license, grant, or other benefit by the requesting agency, to the extent that the information is relevant and necessary to requesting the agency's decision on the matter;

(4) To provide information to a congressional office in response to an inquiry made at the request of the individual to whom the record pertains;

(5) To disclose information which is necessary and relevant to the Department of Justice or to a court when the Government is party to a judicial proceeding before the court;

(6) To provide information to the National Archives and Records Administration for use in records management inspections conducted under authority of 44 U.S.C. 2904 and 2908;

(7) To disclose information to officials of the Merit Systems Protection Board, the Office of the Special Counsel, the Federal Labor Relations Authority, the Equal Employment Opportunity Commission, or the Office of Personnel Management when requested in performance of their authorized duties;

(8) To disclose information to a court, magistrate, or administrative tribunal in the course of presenting evidence, including disclosures to opposing Counsel or witnesses in the course of civil discovery, litigation or settlement negotiations in response to a subpoena where relevant or potentially relevant to a proceeding, or in connection with criminal law proceedings; and

(9) To provide information to officials of labor organizations recognized under the Civil Service Reform Act when relevant and necessary to their duties of exclusive representation concerning personnel policies, practices, and matters affecting work conditions.

Policies and practices for storing, retrieving, accessing, retaining, and disposing of records in the system:

Storage:

File folders and electronic media.

Retrievability:

By the names of the individuals on whom they are maintained.

Safeguards:

Lockable metal filing cabinets to which only authorized personnel have access. Automated databases are password protected.

Retention and Disposal:

Disposed of after closing of the case in accordance with General Records Schedule 1, Civilian Personnel Records, Category 7d.

System manager(s) and address:

Director, Office of Personnel Policy, Room 6018-Metropolitan Square, Department of the Treasury, Washington, DC 20220.

Notification Procedure:

It is required that individuals submitting claims be provided a copy of the record under the claims process. They may, however, contact the agency personnel or designated office where the action was processed, regarding the existence of such records on them. They must furnish the following information for their records to be located and identified: (1) Name, (2) date of birth, (3) approximate date of closing of the case and kind of action taken, (4) organizational component involved.

Record Access Procedures:

It is required that individuals submitting claims be provided a copy of the record under the claims process. However, after the action has been closed, an individual may request access to the official copy of the claim file by contacting the system manager. Individuals must provide the following information for their records to be located and identified: (1) Name, (2) date of birth, (3) approximate date of closing of the case and kind of action taken, (4) organizational component involved.

Contesting Record Procedures:

Review of requests from individuals seeking amendment of their records which have been the subject of a judicial or quasi-judicial action will be limited in scope. Review of amendment requests of these records will be restricted to determining if the record accurately documents the action of the agency ruling on the case, and will not include a review of the merits of the action, determination, or finding. Individuals wishing to request amendment to their records to correct factual errors should contact the system manager. Individuals must furnish the following information for their records to be located and identified: (1) Name, (2) date of birth, (3) approximate date of closing of the case and kind of action taken, (4) organizational component involved.

Record Source Categories:

Information in this system of records is provided: (1) By the individual on whom the record is maintained, (2) by testimony of witnesses, (3) by agency officials, (4) from related correspondence from organizations or persons.

Exemptions Claimed for the System:

None.

[FR Doc. 01-1011 Filed 1-12-01; 8:45 am]

BILLING CODE 4810-25-P